NATIONAL ARCHIVES AND RECORDS ADMINISTRATION

[NARA-2014-013]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 3, 2014. Once the appraisal of the records is completed, NARA will send a copy of the schedule. NARA staff usually prepares appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e)).

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records.

Further information about the disposition process is available on request.

Schedules Pending

1. Department of the Army, Agency-wide (N1-AU-11-26, 1 item, 1 temporary item). Master files of an electronic information system used to manage maintenance and supply activity on equipment throughout its life cycle.

2. Department of the Army, Agency-wide (N1-AU-11-27, 1 item, 1 temporary item). Master files of an electronic information system used to track movement requirements for unit property and equipment.

3. Department of Defense, Office of the Secretary of Defense (DAA-0330-2013-0009, 1 item, 1 temporary item). Master files of an electronic information system that supports electronic authentication for persons requesting access to DoD installations.

4. Department of Health and Human Services, Office of the Secretary (DAA-0468-2013-0008, 8 items, 4 temporary items). Routine correspondence, working files, and supporting files of the Office of the Inspector General. Proposed for permanent retention are briefing books, significant correspondence, and reports.

5. Department of Health and Human Services, Centers for Medicare & Medicaid Services (DAA-0440-2013-0009, 1 item, 1 temporary item). Records related to contract monitoring and evaluation.

6. Department of Housing and Urban Development, Agency-wide (DAA-0207-2013-0001, 1 item, 1 temporary item). Records related to condominium certifications used to facilitate mortgage insurance applications.

7. Department of Justice, United States Marshals Service (DAA-0527-2013-0012, 1 item, 1 temporary item). Records of the Judicial Security Division consisting of routine requests for funds and resources for special assignments.

8. Department of Justice, United States Marshals Service (DAA-0527-2013-0025, 3 items, 3 temporary items). Records include application materials and related correspondence of candidates for United States Marshal.

9. Department of State, Bureau of Public Affairs (DAA-0059-2013-0008, 1 item, 1 temporary item). Records of the Rapid Response Unit including research material and daily reports.

10. Department of State, Bureau of Public Affairs (DAA-0059-2014-0005, 2 items, 1 temporary item). Records of the Office of the Historian including background and research material used by the oral history program. Proposed for permanent retention are oral histories, legal releases, and deed of gift forms.

11. Department of Veterans Affairs, Office of Inspector General (DAA-0015-2013-0004, 12 items, 8 temporary items). Hotline records, congressional inquiries, investigative case files, and working papers. Proposed for permanent retention are executive correspondence, project oversight reports, joint reviews, strategic plans, and semi-annual reports to Congress.

12. Administrative Office of the United States Courts, Administrative Office (DAA-0116-2013-0001, 13 items, 11 temporary items). Administrative records relating to routine audits, surveys, and management reviews. Proposed for permanent retention are records relating to strategic plans and significant management reviews.

13. Administrative Office of the United States Courts, United States District Courts (DAA-0021-2013-0003, 2 items, 1 temporary item). Records relating to complaints of judicial misconduct or disability. Proposed for permanent retention are final orders on conduct or disability.

14. Advisory Council on Historic Preservation, Agency-wide (DAA-0536-2013-0007 (69 items, 39 temporary items). Comprehensive schedule covering training files (except for an evidential sample), non-winning nomination files for awards, and other non-substantive program records. Proposed for permanent retention are Council meeting files, records of the Executive Director, National Historic Preservation Act Section 106 case records, and other substantive records relating to agency policies, programs, and products.

Paul M. Wester, Jr.,
Chief Records Officer for the U.S. Government.

[FR Doc. 2013-31176 Filed 12-31-13; 8:45 am]

BILLING CODE 7515-01-P